DEPARTMENT OF AGRICULTURE

Rural Utilities Service

7 CFR Part 1721

Post-Loan Policies and Procedures for Insured Electric Loans

AGENCY: Rural Utilities Service, USDA.

ACTION: Notice of confirmation of effective date.

SUMMARY: The Rural Utilities Service (RUS) hereby gives notice that no adverse comments were received regarding the direct final rule on the Post-Loan Policies and Procedures for Insured Electric Loans, published in the Federal Register, December 28, 1999, at 64 FR 72488, and confirms the effective date of the direct final rule.

DATES: The direct final rule, which published at 64 FR 72488, is effective February 11, 2000.

FOR FURTHER INFORMATION CONTACT: Charles M. Philpott, Chief, Engineering Branch, Northern Regional Division, U. S. Department of Agriculture , Rural Utilities Service, Room 4034 South Bldg., 1400 Independence Ave., SW., Washington, DC 20250-1522. Telephone: (202) 720-1432. E-mail: cphilpot@rus.usda.gov.

Confirmation of Effective Date

This is to confirm the effective date of the direct final rule, 7 CFR part 1721, Post-Loan Policies and Procedures for Insured Electric Loans—Advances, published December 28, 1999, at 64 FR 72488, and is to advise that RUS did not receive any written adverse comments and no written notice of intent to submit adverse comments on this rule.

Dated: February 22, 2000.
Christopher A. McLean,
Acting Administrator, Rural Utilities Service.

[FR Doc. 00-4764 Filed 2-29-00; 8:45 am]

BILLING CODE 3410-15-P